DEPARTMENT OF EDUCATION

Applications for New Awards; Well-Rounded Education Through Student-Centered Funding Demonstration Grants

AGENCY: Office of Elementary and Secondary Education, Department of Education.

ACTION: Notice.

SUMMARY: The Department of Education (Department) is issuing a notice inviting applications for fiscal year (FY) 2020 for Well-Rounded Education through Student-Centered Funding Demonstration Grants, Catalog of Federal Domestic Assistance (CFDA) number 84.424E. This notice relates to the approved information collection under OMB control number 1894-0006.

DATES:

Applications Available: May 11, 2020.

Deadline for Transmittal of Applications: July 10, 2020.

Deadline for Intergovernmental Review: September 8, 2020.

Pre-Application Webinar Information: The Department will hold a pre-application meeting via webinar for prospective applicants. Please refer to the Department's website for specific details about the pre-application webinar, which we expect to hold approximately two weeks after applications are available: https://oese.ed.gov/offices/office-of-formula-grants/school-support-and-accountability/student-centered-funding-pilot/.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Denise Joseph, U.S. Department of Education, 400 Maryland Avenue SW, Room 3W105, Washington, DC 20202-5970. Telephone: (202) 453-6702. Email: WeightedFundingPilot@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Well-Rounded Education through Student-Centered Funding Demonstration Grants program provides competitive grants to local educational agencies (LEAs) to demonstrate model programs for providing well-rounded education opportunities through the development and implementation of student-centered funding (SCF) systems based on weighted per-pupil allocations under section 1501 of the Elementary and Secondary Education Act of 1965, as amended (ESEA).

Background: Most LEAs allocate school-level resources in the form of staff, equipment, and instructional materials, rather than allocating specific dollar amounts to individual schools. Typically, such traditional resource-allocation systems determine the number of teachers, school administrators, and other types of staff for each school based on its total student enrollment, with additional support for particular groups of students (e.g., students from low-income families, English learners (ELs), and students with disabilities) often provided through Federal- and State-funded categorical funding programs. School leaders and other stakeholders such as teachers, parents, and community members often have little influence over how dollars are spent at their school and are thus unable to tailor the school's education program to meet the needs of its specific students. The lack of transparency, predictability, and autonomy in the typical school resource allocation system means students in a given school may not have access to an enriched curriculum and educational experience tailored to their needs—that is, the very essence of a well-rounded education.

Section 1501 of the ESEA offers an alternative to such traditional resource-allocation systems. An LEA approved under section 1501 has flexibility to consolidate eligible Federal funds with its State and local funds to create a single student-centered school funding system based on weighted per-pupil allocations for students from low-income families, ELs, and otherwise disadvantaged students. The Secretary is prepared to waive most Federal fiscal requirements that apply to the Federal funds the LEA allocates through such a system that meets the requirements of section 1501, thereby affording each school in the LEA considerable flexibility to use its Federal funds alongside its State and local funds to create a well-rounded education program that best meets the specific needs of students in the school.

Opportunities to provide a more well-rounded education program, tailored to the specific needs of students in each school and consistent with section 4107 of the ESEA, increase when school leaders and stakeholders have flexibility to combine Federal with State and local funds. The Well-Rounded Education through Student-Centered Funding Demonstration Grants program is intended to help build the capacity of LEAs to provide well-rounded education by utilizing the SCF flexibility agreements under ESEA section 1501 in order to demonstrate models for expanding and enhancing delivery of such opportunities for educationally disadvantaged students. This program is being established with funds from the two percent reservation for technical assistance and capacity building under section 4103(a)(3) of the ESEA, which is designed to support States and LEAs in carrying out activities authorized under the Student Support and Academic Enrichment Grants program in title IV, part A of the ESEA, including activities that support access to a well-rounded education. Grants are available to LEAs that commit to applying for an SCF flexibility agreement under ESEA section 1501 to assist them in developing, preparing, and implementing an SCF system that enhances and expands the provision of well-rounded education opportunities to educationally disadvantaged students.

Priority: We are establishing this priority for the FY 2020 grant competition and any subsequent year in which we make awards from the list of unfunded applications from this competition, in accordance with section 437(d)(1) of the General Education Provisions Act (GEPA), 20 U.S.C. 1232(d)(1).

Absolute Priority: For FY 2020 and any subsequent year in which we make awards from the list of unfunded applications from this competition, this priority is an absolute priority. Under 34 CFR 75.105(c)(3) we consider only applications that meet this priority.

This priority is:

Absolute Priority: Developing and Implementing a Student-Centered Funding System to Provide Well-Rounded Education Opportunities to Educationally Disadvantaged Students.

Under this priority, we will consider an application from an LEA that assures it will—

(a) Within 12 months of receiving a grant, submit an application to the Department to implement an SCF flexibility agreement consistent with ESEA section 1501;

(b) Use its SCF system to enhance and expand the provision of well-rounded education opportunities to educationally disadvantaged students; and

(c) Participate in the program evaluation required for LEAs that receive an SCF flexibility agreement consistent with ESEA section 1501(j).

Requirements: We are establishing these application requirements for the FY 2020 grant competition and any subsequent year in which we make awards from the list of unfunded applications from this competition, in accordance with section 437(d)(1) of GEPA, 20 U.S.C. 1232(d)(1).

Application Requirements: An LEA must include the following in its application:

(a) A plan, including a timeline, for—

(1) Developing, within 12 months of receiving an award under this program, and preparing to implement, an SCF system that is designed to meet requirements for receiving an SCF flexibility agreement under ESEA section 1501, which may include building the capacity of the LEA and school staff to implement the system;

(2) Applying, within 12 months of receiving an award under this program, to the Department for an SCF flexibility agreement under ESEA section 1501 (information about ESEA section 1501 is found at https://oese.ed.gov/offices/office-of-formula-grants/school-support-and-accountability/student-centered-funding-pilot/); and

(3) Disseminating widely to other LEAs no later than the end of the grant period, information on—

(i) The development and implementation of the LEA's SCF system;

(ii) How the SCF system enhances schools' abilities to provide well-rounded education opportunities to educationally disadvantaged students; and

(iii) Related academic and other outcomes for those students, which, at the LEA's discretion, could be based on one or more indicators from the statewide accountability system (e.g., the other academic indicator for public elementary and secondary schools that are not high schools, a school quality or student success indicator, or another indicator), or any other valid and reliable measure.

(b) A description of how the LEA will—

(1) Implement and continuously improve its SCF system during each year of the award, including through an approved SCF flexibility agreement. This may include addressing the estimated impact of system implementation on schools that receive less funding than under the previous funding model; and

(2) Use its SCF system to expand and enhance the provision of well-rounded education opportunities to educationally disadvantaged students.

(c) A detailed project budget, which includes a budget narrative that addresses the following and a proposed budget with funding sufficient to—

(1) For the first year of the project, support LEA work to develop and submit an application to the Department for an SCF flexibility agreement under ESEA section 1501 within the first 12 months of the project, and prepare to implement its SCF system;

(2) For the second year of the project, if the LEA's SCF flexibility agreement is not yet approved under ESEA section 1501, support LEA work to plan for implementation of its SCF system and train staff according to their roles and responsibilities on well-rounded education activities aligned with SCF implementation, such as training school leaders on budgeting under an SCF system and training central office staff on supporting school leaders in implementing an SCF system;

(3) Support LEA work, once approved to implement an SCF flexibility agreement under ESEA section 1501, to implement its SCF system for the duration of the grant period and develop a plan for sustainability to continue to implement its SCF system in the years following the grant period; and

(4) Annually travel to project directors' meetings in Washington, DC.

Third through Fifth Years of the Project: A grantee must receive approval, or an extension if a grantee's initial three-year approval expired, from the Department to implement an SCF flexibility agreement under ESEA section 1501 to continue to receive funding for the third through fifth years. In determining whether to continue funding, the Secretary will also consider the requirements of 34 CFR 75.253(a), as well as—

(a) The timeliness with which the requirements of the grant have been or are being met by the project and how well they are being met; and

(b) Readiness to implement an approved SCF flexibility agreement under ESEA section 1501, as demonstrated through local commitment and staff capacity, and the likelihood that approval of an agreement will enhance a well-rounded education in the LEA.

Definitions: Based on the requirements in section 1501, we are establishing the definitions of “educationally disadvantaged students” and “students from low-income families” for the FY 2020 grant competition and any subsequent year in which we make awards from the list of unfunded applications from this competition, in accordance with section 437(d)(1) of GEPA, 20 U.S.C. 1232(d)(1). The definition of “English learner” is from ESEA section 8101(20), “high-poverty school” is from ESEA section 1501(l)(2), and the definition of “well-rounded education” is from ESEA section 8101(52).

Educationally disadvantaged students means, consistent with ESEA section 1501(d)(2)(A)(ii), ELs, students from low-income families, and students with any other characteristics associated with educational disadvantage chosen by the LEA.

English learner means an individual who is an English learner as defined in ESEA section 8101(20).

High-poverty school means a school that is in the highest two quartiles of schools served by an LEA, based on the percentage of enrolled students from low-income families.

Students from low-income families means low-income students as determined by the LEA for the purpose of implementing an SCF flexibility agreement under section 1501 of the ESEA.

Well-rounded education means courses, activities, and programming in subjects such as English, reading or language arts, writing, science, technology, engineering, mathematics, foreign languages, civics and government, economics, arts, history, geography, computer science, music, career and technical education, health, physical education, and any other subject, as determined by the State or LEA with the purpose of providing all students access to an enriched curriculum and educational experience.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under section 4103(a)(3) of the ESEA (20 U.S.C. 7113) and therefore qualifies for this exemption. In order to ensure timely grant awards, the Secretary has decided to forgo public comment on the priority, requirements, and definitions under section 437(d)(1) of GEPA. The priority, requirements, and definitions will apply to the FY 2020 grant competition and any subsequent year in which we make awards from the list of unfunded applications from this competition.

Program Authority: Section 4103(a)(3) of the ESEA (20 U.S.C. 7113).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $3,000,000.

Contingent upon the availability of funds and the quality of applications, we may make additional awards in subsequent years from the list of unfunded applications from this competition.

Estimated Range of Awards: $500,000 per year prior to implementation of the SCF system; $1,000,000-$3,000,000 per year for implementation.

Estimated Average Size of Awards: $1,500,000 per year.

Estimated Number of Awards: 1-4.

Note: The Department is not bound by any estimates in this notice.

Project Period: Up to 60 months.

III. Eligibility Information

1. Eligible Applicants: LEAs.

2.a. Cost Sharing or Matching: This program does not require cost sharing or matching.

b. Supplement-Not-Supplant: This program involves supplement-not-supplant funding requirements.

3. Equitable Services for Children and Educators in Private Schools: A grantee under this program is required to provide for the equitable participation of private school children, in accordance with section 8501 of the ESEA (20 U.S.C. 7881). For purposes of this program, this means that a grantee that receives approval from the Department to implement an SCF flexibility agreement under section 1501 of the ESEA (20 U.S.C. 6491) must provide for the equitable participation of private school children as required by sections 1501(d)(1)(I), 1117, and 8501 of the ESEA (20 U.S.C. 6491(d)(1)(I), 6320, and 7881).

4. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application. Grants.gov has relaxed the requirement for applicants to have an active registration in the System for Award Management (SAM) in order to apply for funding during the COVID-19 pandemic. An applicant that does not have an active SAM registration can still register with grants.gov, but must contact the Grants.gov Support Desk, toll-free, at 1-800-518-4726, in order to take advantage of this flexibility.

2. Intergovernmental Review: This program is subject to Executive Order 12372 and the regulations in 34 CFR part 79. Information about Intergovernmental Review of Federal Programs under Executive Order 12372 is in the application package for this program.

3. Funding Restrictions: A grantee may use grant funds only for activities related to—

(a) For a period of up to 24 months, developing and preparing to implement an SCF system through an SCF flexibility agreement under ESEA section 1501, which may include staff capacity building; and

(b) Once implementing an SCF flexibility agreement—

(1) Implementing and continuously improving an SCF system, which may include assisting schools in transitioning to a new system, including temporary payments to schools that receive less funding than under the previous funding model so the LEA as a whole can implement the SCF system and increase opportunities for a well-rounded education across schools in the LEA;

(2) Using an SCF system to provide enhanced and expanded well-rounded education opportunities to educationally disadvantaged students; and

(3) Disseminating information on its project.

We reference regulations outlining other funding restrictions in the Applicable Regulations section of this notice.

4. Recommended Page Limit: The application narrative is where you, the applicant, address the selection criteria that reviewers use to evaluate your application. We recommend that you (1) limit the application narrative to no more than 40 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section (including the narrative budget justification); the assurances and certifications; or the one-page abstract, the resumes, the bibliography, or the letters of support. However, the recommended page limit does apply to all of the application narrative.

V. Application Review Information

1. Selection Criteria: In general, the selection criteria for this program are from 34 CFR 75.210. The selection criterion in paragraph (a)(1) is based on applicable program statute in accordance with 34 CFR 75.209. The selection criteria are as follows:

(a) Quality of the project design (up to 30 points).

The Secretary considers the quality of the design of the proposed project. In determining the quality of the design of the proposed project, the Secretary considers the following factors:

(1) The extent to which the design of the proposed project is appropriate to, and will successfully address, the needs of educationally disadvantaged students through a well-rounded education (up to 10 points).

(2) The extent to which the applicant demonstrates that it has the resources to operate the project beyond the length of the grant, including a multi-year financial and operating model and accompanying plan; the demonstrated commitment of any partners; evidence of broad support from stakeholders (e.g., State educational agencies, teachers' unions) critical to the project's long-term success; or more than one of these types of evidence (up to 10 points).

(3) The potential replicability of the proposed project or strategies, including, as appropriate, the potential for implementation in a variety of settings (up to 5 points).

(4) The extent to which the results of the proposed project are to be disseminated in ways that will enable others to use the information or strategies (up to 5 points).

(b) Quality of project services (up to 20 points).

The Secretary considers the quality of the services to be provided by the proposed project. In determining the quality of the services to be provided by the proposed project, the Secretary considers the following factors:

(1) The quality and sufficiency of strategies for ensuring equal access and treatment for eligible project participants who are members of groups that have traditionally been underrepresented based on race, color, national origin, gender, age, or disability (up to 10 points).

(2) The extent to which the services to be provided by the proposed project involve the collaboration of appropriate partners for maximizing the effectiveness of project services (up to 10 points).

(c) Adequacy of resources (up to 20 points).

The Secretary considers the adequacy of resources for the proposed project. In determining the adequacy of resources for the proposed project, the Secretary considers the following factors:

(1) The extent to which the budget is adequate to support the proposed project (up to 10 points).

(2) The qualifications, including relevant training and experience, of key project personnel (up to 10 points).

(d) Quality of the management plan (up to 30 points).

The Secretary considers the quality of the management plan for, and the evaluation to be conducted of, the proposed project. In determining the quality of the management plan and the project evaluation, the Secretary considers the following factors:

(1) The adequacy of the management plan to achieve the objectives of the proposed project on time and within budget, including clearly defined responsibilities, timelines, and milestones for accomplishing project tasks (up to 10 points).

(2) The adequacy of procedures for ensuring feedback and continuous improvement in the operation of the proposed project (up to 10 points).

(3) How the applicant will ensure that a diversity of perspectives are brought to bear in the operation of the proposed project, including those of parents, teachers, the business community, a variety of disciplinary and professional fields, recipients or beneficiaries of services, or others, as appropriate (up to 10 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures:

(a) Program Performance Measures. The performance measures for this program are—

(1) The total student enrollment in each participating LEA;

(2) The total funds that the participating LEA received for schools from any source (i.e., Federal, State, and local funds);

(3) The total funds that the participating LEA received for schools from any source (i.e., Federal, State, and local funds) and expended using an SCF system; and

(4) The ratio of the total amount of per-pupil funding from any source expended in high-poverty schools (as defined in this notice) as compared with the total amount of per-pupil funding expended in schools that are not high-poverty schools in each participating LEA.

(b) Project-Specific Performance Measures. Applicants must propose project-specific performance measures and performance targets consistent with the objectives of the proposed project, including measures to address how the SCF system will enhance and expand the provision of well-rounded education opportunities to educationally disadvantaged students. Applicants must provide the following information as directed under 34 CFR 75.110(b) and (c):

(1) Performance measures. How each proposed performance measure would accurately measure the performance of the project and how the proposed performance measure would be consistent with the performance measures established for the program funding the competition.

(2) Baseline data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit annual performance reports with information that is responsive to these performance measures.

6. Continuation Awards: In making a continuation award under 34 CFR 75.253, the Secretary considers, among other things: Whether a grantee has made substantial progress in achieving the goals and objectives of the program; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-09999 Filed 5-8-20; 8:45 am]

BILLING CODE 4000-01-P